ENVIRONMENTAL PROTECTION AGENCY

[OPP-2002-0265; FRL-7280-8]

FIFRA Scientific Advisory Panel; Notice of Cancellation of Public Meetings

AGENCY: Environmental Protection Agency (EPA).

ACTION: Notice.

SUMMARY: In the Federal Register of October 10, 2002 (67 FR 63084) (FRL-7276-4), EPA announced a November 21, 2002, pre-meeting teleconference and a December 3-5, 2002, face-to-face meeting of the Federal Insecticide, Fungicide, and Rodenticide Act Scientific Advisory Panel (FIFRA SAP) to consider and review studies on water disinfection and softening as related to the Food Quality Protection Act (FQPA) drinking water exposure assessments. The meetings have been cancelled because of logistical problems. A new set of meetings will be announced in the Federal Register.

FOR FURTHER INFORMATION CONTACT: Paul Lewis, Designated Federal Official (DFO), Office of Science Coordination and Policy (7201M), Environmental Protection Agency, 1200 Pennsylvania Ave., NW., Washington, DC 20460-0001; telephone number: (202) 564-8450; fax number: (202) 564-8382; e-mail address: lewis.paul@epa.gov.

SUPPLEMENTARY INFORMATION:

I. Does this Action Apply to Me?

This action is directed to the public in general. This action may be of interest to persons who are or may be required to conduct testing of chemical substances under the Federal Food, Drug, and Cosmetic Act (FFDCA), FIFRA, and FQPA. Since other entities may also be interested, the Agency has not attempted to describe all the specific entities that may be affected by this action. If you have any questions regarding the applicability of this action to a particular entity, consult the DFO listed under FOR FURTHER INFORMATION CONTACT.

II. How Can I Get Copies of this Document and Other Related Information?

1. Docket. EPA has established an official public docket for this action under docket identification (ID) number OPP-2002-0265. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr.

An electronic version of the public docket is available through EPA's electronic public docket and comment system, EPA Dockets. You may use EPA Dockets at http://www.epa.gov/edocket to submit or view public comments, access the index listing of the contents of the official public docket, and to access those documents in the public docket that are available electronically. Once in the system, select “search,” then key in the appropriate docket ID number.

List of Subjects

Environmental protection, Pesticides and pests.

Dated: November 5, 2002.
Joseph J. Merenda, Jr.,
Director, Office of Science Coordination and Policy.

[FR Doc. 02-28841 Filed 11-12-02; 8:45 am]

BILLING CODE 6560-50-S